DEPARTMENT OF THE INTERIOR

National Park Service

Notice of Intent To Issue a Temporary of Concession Contract for Gas Service at Yosemite National Park

SUMMARY: Pursuant to the National Park Service Concessions Management Improvement Act of 1998, notice is hereby given that the National Park Service intends to issue a temporary concession contract authorizing continued operation of a gas service station adjacent to the west entrance of Yosemite National Park. The operation is located on land administered by the park in the community of El Portal. The temporary concession contract will be for a term of not more than three years. This short-term concession contract is necessary to avoid interruption of public services while the National Park Service finalizes the Yosemite Valley Plan. This short-term contract will be for a three-year period beginning January 1, 2001. This notice is in pursuant to 36 CFR part 51, section 51.24(a).

SUPPLEMENTARY INFORMATION: The current concession contract at Yosemite National Park will expire on December 31, 2000. The year round operation is the primary source for visitors to obtain gas and have minor auto repairs performed. The Yosemite Valley Plan is near completion and addresses future service station operations. Underground storage tanks at the existing El Portal Site must be replaced to comply with all state and federal requirements; this is in the process of being accomplished. The short-term concession contact will allow for this action to take place without a long-term delay in service to the public. In addition, this period of time is necessary to allow for completion of the Prospectus, that will incorporate the planning requirements for commercial development of the El Portal Administrative Site currently being considered in the Yosemite Valley Plan.

Information about this notice can be sought from: National Park Service, Chief, Concession Program Management Office, Pacific West Region, Attn: Mr. Tony Sisto, 600 Harrison Street, Suite 600, San Francisco, California 94107-1372, or call (415) 427-1366.

Dated: January 12, 2001.
Sondra Humphries,
(Acting) Regional Director, Pacific West Region.

[FR Doc. 01-4078 Filed 2-16-01; 8:45 am]

BILLING CODE 4310-70-P